DEPARTMENT OF ENERGY

Federal Energy Regulatory Commission

[Docket No. EL16-51-000]

Beaver Dam Energy LLC; Notice of Institution of Section 206 Proceeding and Refund Effective Date

On April 22, 2016, the Commission issued an order in Docket No. EL16-51-000, pursuant to section 206 of the Federal Power Act (FPA), 16 U.S.C. 824e (2012), instituting an investigation into the justness and reasonableness of Beaver Dam Energy LLC's reactive power rate schedule. Beaver Dam Energy LLC, 155 FERC ¶ 61,086 (2016).

The refund effective date in Docket No. EL16-51-000, established pursuant to section 206(b) of the FPA, will be the date of publication of this notice in the Federal Register.

Dated: April 22, 2016.
Nathaniel J. Davis, Sr.,
Deputy Secretary.

[FR Doc. 2016-10024 Filed 4-28-16; 8:45 am]

BILLING CODE 6717-01-P